DEPARTMENT OF HOMELAND SECURITY

Federal Emergency Management Agency

[Docket ID FEMA-2022-0002; Internal Agency Docket No. FEMA-B-2239]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Arapahoe | City of Centennial (21-08-0915P). | The Honorable Stephanie Piko, Mayor, City of Centennial, 13113 East Arapahoe Road, Centennial, CO 80112. | Southeast Metro Stormwater Authority, 7437 South Fairplay Street, Centennial, CO 80112. | https://msc.fema.gov/portal/advanceSearch. | Sep. 2, 2022 | 080315
Arapahoe | City of Centennial (22-08-0055P). | The Honorable Stephanie Piko, Mayor, City of Centennial, 13113 East Arapahoe Road, Centennial, CO 80112. | Southeast Metro Stormwater Authority, 7437 South Fairplay Street, Centennial, CO 80112. | https://msc.fema.gov/portal/advanceSearch. | Sep. 2, 2022 | 080315
Arapahoe | Unincorporated areas of Arapahoe County (21-08-0915P). | The Honorable Nancy Jackson, Chair, Arapahoe County Board of Commissioners, 5334 South Prince Street, Littleton, CO 80120. | Arapahoe County Public Works and Development Department, 6924 South Lima Street, Centennial, CO 80112. | https://msc.fema.gov/portal/advanceSearch. | Sep. 2, 2022 | 080011
Douglas | Town of Castle Rock (21-08-0797P). | The Honorable Jason Gray, Mayor, Town of Castle Rock, 100 North Wilcox Street, Castle Rock, CO 80104. | Stormwater Department, 175 Kellogg Court, Castle Rock, CO 80109. | https://msc.fema.gov/portal/advanceSearch. | Aug. 26, 2022 | 080050
Douglas | Town of Parker (21-08-0915P). | The Honorable Jeff Toborg, Mayor, Town of Parker, 20120 East Main Street, Parker, CO 80138. | Public Works and Engineering Department, 20120 East Main Street, Parker, CO 80138. | https://msc.fema.gov/portal/advanceSearch. | Sep. 2, 2022 | 080310
Douglas | Unincorporated areas of Douglas County (21-08-0545P). | The Honorable Lora A. Thomas, Chair, Douglas County Board of Commissioners, 100 3rd Street, Castle Rock, CO 80104. | Douglas County Public Works Department, Engineering Division, 100 3rd Street, Castle Rock, CO 80104. | https://msc.fema.gov/portal/advanceSearch. | Sep. 2, 2022 | 080049
Florida:
Orange | City of Orlando (20-04-1937P). | The Honorable Buddy W. Dyer, Mayor, City of Orlando, 400 South Orange Avenue, Orlando, FL 32801. | Public Works Department, 400 South Orange Avenue, 8th Floor, Orlando, FL 32801. | https://msc.fema.gov/portal/advanceSearch. | Aug. 29, 2022 | 120186
Orange | Unincorporated areas of Orange County (20-04-1937P). | The Honorable Jerry L. Demings, Mayor, Orange County, 201 South Rosalind Avenue, 5th Floor, Orlando, FL 32801. | Orange County Public Works Department, Stormwater Management Division, 4200 South John Young Parkway, Orlando, FL 32839. | https://msc.fema.gov/portal/advanceSearch. | Aug. 29, 2022 | 120179
Osceola | City of St. Cloud (21-04-5676P). | Mr. William Sturgeon, City of St. Cloud Manager, 1300 9th Street, St. Cloud, FL 34769. | Building Department, 1300 9th Street, St. Cloud, FL 34769. | https://msc.fema.gov/portal/advanceSearch. | Aug. 19, 2022 | 120191
Osceola | Unincorporated areas of Osceola County (21-04-5676P). | Mr. Don Fisher, Osceola County Manager, 1 Courthouse Square, Suite 4700, Kissimmee, FL 34741. | Osceola County Public Works Department, 1 Courthouse Square, Suite 3100, Kissimmee, FL 34741. | https://msc.fema.gov/portal/advanceSearch. | Aug. 19, 2022 | 120189
Pinellas | City of Madeira Beach (22-04-1911P). | The Honorable John Hendricks, Mayor, City of Madeira Beach, 300 Municipal Drive, Madeira Beach, FL 33708. | Community Development Department, 300 Municipal Drive, Madeira Beach, FL 33708. | https://msc.fema.gov/portal/advanceSearch. | Aug. 18, 2022 | 125127
Sarasota | Unincorporated areas of Sarasota County (21-04-5591P). | The Honorable Alan Maio, Chairman, Sarasota County Board of Commissioners, 1660 Ringling Boulevard, Sarasota, FL 34236. | Sarasota County Planning and Development Services Department, 1001 Sarasota Center Boulevard, Sarasota, FL 34240. | https://msc.fema.gov/portal/advanceSearch. | Aug. 1, 2022 | 125144
Georgia: Columbia | Unincorporated areas of Columbia County (22-04-0098P). | The Honorable Douglas R. Duncan, Jr., Chairman, Columbia County Board of Commissioners, P.O. Box 498, Evans, GA 30809. | Columbia County Engineering Services Department, 630 Ronald Reagan Drive, Building A, Evans, GA 30809. | https://msc.fema.gov/portal/advanceSearch. | Aug. 18, 2022 | 130059
Maryland: Montgomery | Unincorporated areas of Montgomery County (21-03-1260P). | The Honorable Marc Elrich, Montgomery County Executive, 101 Monroe Street, 2nd Floor, Rockville, MD 20850. | Montgomery County Permitting Services Department, 2425 Reedie Drive, 7th Floor, Wheaton, MD 20902. | https://msc.fema.gov/portal/advanceSearch. | Aug. 23, 2022 | 240049
Pennsylvania: Centre | Township of Ferguson (22-03-0002P). | Ms. Centrice Martin, Interim Manager, Township of Ferguson, 3147 Research Drive, State College, PA 16801. | Planning and Zoning Department, 3147 Research Drive, State College, PA 16801. | https://msc.fema.gov/portal/advanceSearch. | Aug. 2, 2022 | 420260
Tennessee: Hamblen | City of Morristown (21-04-1266P). | The Honorable Gary Chesney, Mayor, City of Morristown, 100 West 1st North Street, Morristown, TN 37814. | Geographic Information Systems (GIS) Department, 100 West 1st North Street, Morristown, TN 37814. | https://msc.fema.gov/portal/advanceSearch. | Aug. 10, 2022 | 470070
Texas:
Caldwell | City of Lockhart (21-06-2405P). | The Honorable Lew White, Mayor, City of Lockhart, P.O. Box 239, Lockhart, TX 78644. | City Hall, 308 West San Antonio Street, Lockhart, TX 78644. | https://msc.fema.gov/portal/advanceSearch. | Aug. 12, 2022 | 480095
Collin | City of Plano (21-06-3103P). | The Honorable John B. Muns, Mayor, City of Plano, 1520 K Avenue, Plano, TX 75074. | City Hall, 1520 K Avenue, Plano, TX 75074. | https://msc.fema.gov/portal/advanceSearch. | Aug. 15, 2022 | 480140
Fort Bend | Unincorporated areas of Fort Bend County (21-06-1165P). | The Honorable K.P. George, Fort Bend County Judge, 401 Jackson Street, Richmond, TX 77469. | Fort Bend County Engineering Department, 301 Jackson Street, 4th Floor, Richmond, TX 77469. | https://msc.fema.gov/portal/advanceSearch. | Aug. 10, 2022 | 480228
Harris | City of Houston (21-06-0193P). | The Honorable Sylvester Turner, Mayor, City of Houston, P.O. Box 1562, Houston, TX 77251. | Floodplain Management Department, 1002 Washington Avenue, Houston, TX 77251. | https://msc.fema.gov/portal/advanceSearch. | Aug. 8, 2022 | 480296
Harris | Unincorporated areas of Harris County (21-06-0193P). | The Honorable Lina Hidalgo, Harris County Judge, 1001 Preston Street, Suite 911, Houston, TX 77002. | Harris County Permit Office, 10555 Northwest Freeway, Suite 120, Houston, TX 77092. | https://msc.fema.gov/portal/advanceSearch. | Aug. 8, 2022 | 480287
Kerr | Unincorporated areas of Kerr County (21-06-3101P). | The Honorable Rob Kelly, Kerr County Judge, 700 East Main Street, Kerrville, TX 78028. | Kerr County Engineering Department, 3766 State Highway 27, Kerrville, TX 78028. | https://msc.fema.gov/portal/advanceSearch. | Aug. 5, 2022 | 480419
Smith | City of Tyler (21-06-2507P). | The Honorable Don Warren, Mayor, City of Tyler, P.O. Box 2039, Tyler, TX 75710. | Development Department, 423 West Ferguson Street, Tyler, TX 75702. | https://msc.fema.gov/portal/advanceSearch. | Aug. 31, 2022 | 480571
Tarrant | City of Fort Worth (21-06-1993P). | The Honorable Mattie Parker, Mayor, City of Fort Worth, 200 Texas Street, Fort Worth, TX 76102. | Department of Transportation and Public Works, Engineering Vault and Map Repository, 200 Texas Street, Fort Worth, TX 76102. | https://msc.fema.gov/portal/advanceSearch. | Aug. 29, 2022 | 480596
Tarrant | City of Fort Worth (21-06-2476P). | The Honorable Mattie Parker, Mayor, City of Fort Worth, 200 Texas Street, Fort Worth, TX 76102. | Department of Transportation and Public Works, Engineering Vault and Map Repository, 200 Texas Street, Fort Worth, TX 76102. | https://msc.fema.gov/portal/advanceSearch. | Aug. 25, 2022 | 480596

[FR Doc. 2022-11681 Filed 5-31-22; 8:45 am]

BILLING CODE 9110-12-P